DEPARTMENT OF THE TREASURY

Submission for OMB Review; Comment Request

June 24, 2013.

The Department of the Treasury will submit the following information collection request to the Office of Management and Budget (OMB) for review and clearance in accordance with the Paperwork Reduction Act of 1995, Public Law 104-13, on or after the date of publication of this notice.

DATES: Comments should be received on or before July 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Financial Management Service (FMS)

OMB Number: 1510—NEW.

Type of Review: New collection.

Title: Accountable Official Application Form for U.S. Department of Treasury Stored Value Card (SVC) Program.

Form: FMS Form 2888.

Abstract: This form is used to collect information from accountable officials requesting enrollment in the Treasury SVC program in their official capacity, to obtain authorization to initiate debit and credit entries to their bank or credit union accounts to load value on the cards, and to facilitate collection of any delinquent amounts that may become due and owning as a result of the use of the cards.

Affected Public: Individuals or Households.

Estimated Total Burden Hours: 1,250.

OMB Number: 1510—NEW.

Type of Review: New collection.

Title: Application Form for U.S. Department of Treasury Stored Value Card (SVC) Program.

Form: FMS Form 2887.

Abstract: This form is used to collect information from individuals requesting enrollment in the Treasury SVC program to obtain authorization to initiate debit and credit entries to their bank or credit union accounts and to facilitate collection of any delinquent amounts.

Affected Public: Individuals or Households.

Estimated Annual Burden Hours: 10,000.

Dawn D. Wolfgang,
Treasury PRA Clearance Officer.

[FR Doc. 2013-15432 Filed 6-26-13; 8:45 am]

BILLING CODE 4810-35-P